DEPARTMENT OF TRANSPORTATION

Federal Highway Administration

Announcement of Solicitation and Application Procedure for State Participation in the Surface Transportation Project Delivery Pilot Program

AGENCY: Federal Highway Administration (FHWA), DOT.

ACTION: Notice; solicitation of applications.

SUMMARY: Section 6005 of the Safe, Accountable, Flexible, Efficient Transportation Equity Act: A Legacy for Users (SAFETEA-LU) provided FHWA the authority to allow up to five States to assume the Secretary's responsibilities for the environmental review, consultation, and other actions pertaining to the review or approval of highway projects. In selecting States for the five available slots in the pilot program, Congress gave priority to the selection of the States of Alaska, California, Ohio, Oklahoma, and Texas. However, at this time, two States, Ohio and Texas, have declined to participate in the pilot program. Accordingly, this notice solicits applications from all other States for participation in this pilot program.

DATES: Letters that indicate interest by the State to be considered for participation in the pilot program should be sent to the FHWA Division Office no later than September 7, 2007.

ADDRESSES: The FHWA Division Office locations can be found at the following URL: http://www.fhwa.dot.gov/field.html#fieldsites.

FOR FURTHER INFORMATION CONTACT: Ms. Ruth Rentch, Office of Project Delivery and Environmental Review, (202)-366-2034, Ruth.Rentch@dot.gov, or Mr. Michael Harkins, Office of the Chief Counsel, (202) 366-4928, Michael.Harkins@dot.gov, Federal Highway Administration, Department of Transportation, 1200 New Jersey Avenue, SE., Washington, DC 20590. Office hours are from 7:45 a.m. to 4:15 p.m., e.t., Monday through Friday, except Federal holidays.

SUPPLEMENTARY INFORMATION:

Electronic Access

An electronic copy of this notice may be downloaded from the Office of the Federal Register's home page at http://www.archives.gov and the Government Printing Office's Web site at http://www.access.gpo.gov.

Background

Section 6005 of the Safe, Accountable, Flexible, Efficient Transportation Equity Act: A Legacy for Users (SAFETEA-LU) (codified at 23 U.S.C. 327) established a pilot program to allow up to five States to assume the Secretary of Transportation's responsibilities for environmental review, consultation, or other actions under any Federal environmental law pertaining to the review or approval of highway projects. In order to be selected for the pilot program, a State must submit an application to the Secretary. In selecting States for the five available slots in the pilot program, Congress gave priority to the selection of the States of Alaska, California, Ohio, Oklahoma, and Texas.

On February 12, 2007, the FHWA published a final rule at 72 FR 6464 establishing requirements concerning the information required to be contained in an application by the State for the pilot program. These regulations, contained in 23 CFR Part 773, required the States of Alaska, California, Ohio, Oklahoma, and Texas to submit a statement of interest to the FHWA by May 14, 2007, in order to retain their priority status. If any of these States failed to submit a statement of interest to the FHWA by May 14, or decline to participate, another State may be selected. In response to this requirement, the FHWA has received statements of interest from California, Oklahoma, and Alaska indicating that they wish to participate in the pilot program. FHWA received letters from Ohio and Texas declining the opportunity to participate in the pilot program. Accordingly, the FHWA currently has two open slots for other State departments of transportation (State DOT). These slots will be awarded on a competitive basis based on such factors as legislative authority to waive the State's sovereign immunity, financial and personnel capabilities to assume responsibilities, and description of plan and processes for carrying out assumed roles and responsibilities. If any State DOT has an interest in applying for this program, that State DOT should contact the FHWA Division Administrator in that State and should begin working with the FHWA in developing its application in accordance with the regulations found at 23 CFR Part 773.

Authority: Section 6005 of Pub. L. 109-59; 23 U.S.C. 315 and 327; 49 CFR 1.48

Issued on: June 28, 2007.
J. Richard Capka,
Federal Highway Administrator.

[FR Doc. E7-13149 Filed 7-6-07; 8:45 am]

BILLING CODE 4910-22-P